DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Alaska Region Logbook Family of Forms.

Form Number(s): None.

OMB Approval Number: 0648-0213.

Type of Request: Regular submission.

Burden Hours: 38,990.

Number of Respondents: 1,143.

Average Hours Per Response: 25 minutes.

Needs and Uses: This collection-of-information affords an increasingly more efficient and accurate database for monitoring and management of the groundfish fisheries of the Exclusive Economic Zone in the waters off Alaska for purposes of conservation of the fisheries as well as for the enforcement of fisheries regulations. Parts of this collection are also used by the fishermen recording catch information on the Bering Sea and Aleutian Islands crab fisheries, and the Individual Fishing Quota Program for Pacific halibut.

Affected Public: Business or other for-profit organizations; individuals or households.

Frequency: Annually and on occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 20, 2005.
Gwellnar Banks,
Management Analyst, Office of the Chief Information Officer.

[FR Doc. 05-14652 Filed 7-25-05; 8:45 am]

BILLING CODE 3510-22-P